DEPARTMENT OF JUSTICE

Office of Community Oriented Policing Services

Agency Information Collection Activities: Proposed Collection; Comment Request

ACTION: Notice of information collection under review; reinstatement, with change, of a previously approved collection for which approval has expired; COPS Grant Status Survey.

The Department of Justice, Office of Community Oriented Policing, has submitted the following information collection request to the Office of Management and Budget (OMB) for review and clearance in accordance with emergency review procedures of the Paperwork Reduction Act of 1995. OMB approval has been requested by January 28, 2000. The proposed information collection is published to obtain comments from the public and affected agencies. If granted, the emergency approval is only valid for 180 days. Comments should be directed to OMB, Office of Information Regulation Affairs, Attention: Department of Justice Desk Officer (202) 395-3122, Washington, DC 20530.

During the first 60 days of this same review period, a regular review of this information collection is also being undertaken. All comments and suggestions, or questions regarding additional information, to include obtaining a copy of the proposed information collection instrument with instructions, should be directed to Marcia Samuels, Project Manager, Office of Community Oriented Policing, 1110 Vermont Avenue NW, Washington DC 20531.

Request written comments and suggestions from the public and affected agencies concerning the proposed collection the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Collection

(1) Type of Information Collection: Second Collection.

(2) Title of the Form/Collection: COPS Grant Status Survey.

(3) Agency form number, if any, and the applicable component of the Department of Justice sponsoring the collection: Form: COPS 301/01. Office of Community Oriented Policing Services, U.S. Department of Justice.

(4) Affected public who will be asked or required to respond, as well as a brief abstract: The COPS Count Project surveys agencies who currently have been awarded a Hiring and/or MORE grants from the COPS Office. The information collected provides an accurate up to date account on the status of officers hired/redeployed.

(5) An estimate of the total number of respondents and the amount of time estimated for an average respondent to respond: Estimated number of respondents: 11,559. Estimated time for average respondent to respond: 1 hour annually (30 min. × 2 times per year=50/60 min.)

(6) An estimate of the total of public burden (in hours) associated with the collection: Approximately 11,559 annual burden hours.

If additional information is required contact: Ms. Brenda E. Dyer, Deputy Clearance Office, United States Department of Justice, Information Management and Security Staff Justice Management Division, Suite 1220, National Place, 1331 Pennsylvania Avenue NW, Washington, DC 20530.

Dated: January 14, 2000.
Brenda E. Dyer,
Department Deputy Clearance Officer, United States Department of Justice.

[FR Doc. 00-1440 Filed 1-20-00; 8:45am ]

BILLING CODE 4410-AT-M